SMALL BUSINESS ADMINISTRATION

Public Federal Regulatory Enforcement Fairness Hearing; Small Business Administration Region X Regulatory Fairness Board

The U.S. Small Business Administration (SBA) Region X Regulatory Fairness Board and the SBA Office of the National Ombudsman will hold a National Regulatory Fairness Hearing on Thursday, August 23, 2007, at 2:30 p.m. The forum will take place at the Boise Metro Chamber of Commerce, 250 S. 5th Street, Basement Conference Center, Boise, ID 83701. The purpose of the meeting is for Business Organizations, Trade Associations, Chambers of Commerce and related organizations serving small business concerns to report experiences regarding unfair or excessive Federal regulatory enforcement issues affecting their members.

Anyone wishing to attend or to make a presentation must contact Tom Bergdoll, in writing or by fax in order to be placed on the agenda. Tom Bergdoll, District Director, SBA, Idaho District Office, 380 East Parkcenter Boulevard, Suite 330, Boise, ID 83706, phone (208) 334-9004, Ext. 325 and fax (202) 481-5840, e-mail: Thomas.bergdoll@sba.gov.

For more information, see our Web site at http://www.sba.gov/ombudsman.

Matthew Teague,
Committee Management Officer.

[FR Doc. E7-15406 Filed 8-7-07; 8:45 am]

BILLING CODE 8025-01-P